DEPARTMENT OF THE INTERIOR

Bureau of Safety and Environmental Enforcement

[Docket ID BSEE-2022-0004; EEEE500000 223E1700D2 ET1SF0000.EAQ000; OMB Control Number 1014-0028]

Agency Information Collection Activities; Submission to the Office of Management and Budget for Review and Approval; Well Operations and Equipment

AGENCY: Bureau of Safety and Environmental Enforcement, Interior.

ACTION: Notice of information collection; request for comment.

SUMMARY: In accordance with the Paperwork Reduction Act (PRA) of 1995, the Bureau of Safety and Environmental Enforcement (BSEE) proposes to renew an information collection with revisions.

DATES: Interested persons are invited to submit comments on or before October 17, 2022.

ADDRESSES: Written comments and recommendations for the proposed information collection should be sent within 30 days of publication of this notice to www.reginfo.gov/public/do/PRAMain. Find this particular information collection by selecting “Currently under 30-day Review—Open for Public Comments” or by using the search function. Please provide a copy of your comments to Kye Mason, BSEE ICCO, 45600 Woodland Road, Sterling, VA 20166; or by email to kye.mason@bsee.gov. Please reference OMB Control Number 1014-0028 in the subject line of your comments.

FOR FURTHER INFORMATION CONTACT: To request additional information about this ICR, contact Kye Mason by email at kye.mason@bsee.gov, or by telephone at (703) 787-1607. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on January 20, 2022 (87 FR 3121). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: BSEE uses the information to ensure safe drilling, workover, completion, and decommissioning operations and to protect the human, marine, and coastal environment. BSEE analyzes and evaluates these information/requirements to reduce the likelihood of a similar Deepwater Horizon event and to reduce the risk of fatalities, injuries, and spills. BSEE also utilizes these requirements in the approval, disapproval, or modification process for well operations.

Specifically, BSEE uses the information in Subpart G to ensure:

• certain well designs and operations have been reviewed by appropriate third parties/engineers/classification societies that, after one year, have been approved by BSEE;

• rig tracking data is available to locate rigs during major storms;

• casing or equipment repairs are acceptable and tested;

• up-to-date engineering documents are available;

• the Blowout Preventer (BOP) and associated components are fit for service for its intended use;

• that the BOP will function as intended;

• that BOP components are properly maintained and inspected;

• the proper engineering reviews and approvals for all BOP designs, repairs, and modifications are met.

Rig Movement Notification Report, Form BSEE-0144

We use the information to schedule inspections and verify that the equipment being used complies with approved permits. The information on this form is used by all 3 regions, but primarily in the Gulf of Mexico (GOM), to ascertain the precise arrival and departure of all rigs in OCS waters in the GOM. The accurate location of these rigs is necessary to facilitate the scheduling of inspections by BSEE personnel.

Items in BOLD are new changes to the form this renewal cycle. Information on form BSEE-0144:

• General Information—Identifies the date, lease operator, rig name/type/representative, and rig telephone number (on location).

• Rig Arrival Information—Identifies the rig arrival date; what type of work will be scheduled; if the rig is new to OCS and location rig came from; relevant well information; duration of operations, well surface location information, structure location information, helideck information, and optional information.

• Rig Departure Information—Identifies the rig departure date, well status, relevant well information, being skidded, obstruction issues, and optional information.

• Rig Stacking Information—Identifies rig arrival/departure date, warm or cold stacked and location, any modification, repairs, or construction and the date, relevant well information, optional information, obstruction issues.

• Certification Statement declaring the information submitted is complete and accurate to the best of signatory's knowledge.

• BSEE OCS Contact Information (Updated).

Title of Collection: 30 CFR 250, Subpart G, Well Operations and Equipment.

OMB Control Number: 1014-0028.

Form Number: Form BSEE-0144, Rig Movement Notification Report.

Type of Review: Revision of a currently approved collection.

Respondents/Affected Public: Potential respondents are comprised of Federal OCS oil, gas, and sulfur lessees/operators and holders of pipeline rights-of-way.

Total Estimated Number of Annual Respondents: Currently there are approximately 550 Federal OCS oil, gas, and sulfur lessees and holders of pipeline rights-of-way. Not all the potential respondents will submit information in any given year, and some may submit multiple times.

Total Estimated Number of Annual Responses: 150,081.

Estimated Completion Time per Response: Varies from 15 minutes to 2,160 hours, depending on activity.

Total Estimated Number of Annual Burden Hours: 350,615.

Respondent's Obligation: Responses are mandatory and required to obtain or retain a benefit.

Frequency of Collection: Submissions are generally on occasion, daily, weekly, monthly, quarterly, and biennially, depending upon the requirement.

Total Estimated Annual Nonhour Burden Cost: $6,732,500.

An agency may not conduct or sponsor and a person is not required to respond to a collection of information unless it displays a currently valid OMB control number.

The authority for this action is the Paperwork Reduction Act of 1995 (44 U.S.C. 3501 et seq.).

Kirk Malstrom,
Chief, Regulations and Standards Branch.

[FR Doc. 2022-20049 Filed 9-15-22; 8:45 am]

BILLING CODE 4310-VH-P